NUCLEAR REGULATORY COMMISSION

[NUREG-0940]

Enforcement Actions: Significant Actions Resolved

AGENCY: Nuclear Regulatory Commission.

ACTION: Request for comments.

SUMMARY: The Nuclear Regulatory Commission (NRC) is announcing its intent to use the NRC website to communicate a consolidation of enforcement actions and to discontinue publication of the paper document, NUREG-0940, “Enforcement Actions: Significant Actions Resolved,” which contains significant enforcement actions that have been issued. The NRC is taking this action because this material is now available electronically on the NRC website. The Commission is also seeking public comment on this action.

DATES: The comment period expires September 11, 2000. Unless the Commission takes further action, the final edition of NUREG-0940 will be the edition published in the summer of 2000.

ADDRESSES: Submit written comments to David L. Meyer, Chief, Rules and Directives Branch, Division of Administrative Services, Office of Administration, Mail Stop T-6D59, U.S. Nuclear Regulatory Commission, Washington, DC 20555-0001. Hand deliver comments to: 11555 Rockville Pike, Rockville, Maryland, between 7:30 a.m. and 4:15 p.m., Federal workdays. Copies of comments received may be examined at the NRC Public Document Room, 2120 L Street, NW. (Lower Level), Washington, DC.

FOR FURTHER INFORMATION CONTACT: Renée Pedersen, Senior Enforcement Specialist, Office of Enforcement, U.S. Nuclear Regulatory Commission, Washington, D.C. 20555-0001 (301) 415-2741, e-mail rmp@nrc.gov.

SUPPLEMENTARY INFORMATION:

Background

In 1982, the Enforcement Staff of the NRC's then Office of Inspection and Enforcement commenced publishing NUREG-0940, “Enforcement Actions: Significant Actions Resolved.” This NUREG is a compilation of the letters, Notices, and Orders sent to licensees with respect to significant enforcement actions (also referred to as escalated actions) issued in a period of time, most recently, six months. The NUREG has been published to assist licensees in taking action to improve safety by avoiding future violations similar to those described in the publication. The NUREG was also published to comply with Commission direction to distribute a list of persons subject to prohibition orders issued under the Deliberate Misconduct Rule (January 13, 1998; 63 FR 1890).

NUREG-0940 is now published twice a year. It is distributed to all power reactor site managers, approximately 2500 materials licensees, and all of the states. The latest issue of NUREG-0940, Vol. 18, No. 1, published August 1999, contained a total of 847 printed pages.

The Office of Enforcement (OE) has established a Home page on the NRC website (www.nrc.gov/OE). The OE Home page contains information on the OE staff, the current Enforcement Policy, the text of escalated Enforcement Actions issued since 1996, upcoming predecisional enforcement and regulatory conferences, guidance documents (e.g., the Enforcement Manual and Enforcement Guidance Memoranda (EGMs)), and a discussion of discrimination for raising safety concerns. This site includes links to other related sites and a search capability. All orders that currently prohibit or restrict individuals from employment in licensed activities are posted on the OE Home page.

The Office of Enforcement also publishes an annual report which describes enforcement activities occurring during each fiscal year. The report addresses significant policy changes, highlights significant enforcement actions, and includes summaries of cases involving exercise of discretion, discrimination, and actions involving individuals. Various statistical tables and figures are included. The annual report is also available on the OE Home page.

Discussion

NUREG-0940 was first published as a paper document, as this was the only effective way to communicate with licensees as a group and to give widespread circulation to actions taken by the NRC in enforcing regulatory requirements. Now, escalated actions that are published in the NUREG are also available to licensees and the public on the NRC website, under the Office of Enforcement Home page. All orders are published in the Federal Register immediately after issuance, and are also available on the website after publication.

Preparing and publishing NUREG-0940 in paper form is expensive when the cost of paper and postage are taken into account. The NRC believes that the purpose of NUREG-0940 can now be accomplished more effectively and far more efficiently by posting actions promptly on the NRC website. Whereas NUREG-0940 is prepared every six months, and the delay from issuance of an action to publication can be as much as 9 months, posting actions on the Internet is immediate. Continuing to publish material in paper form when the current information is immediately available electronically is not a judicious use of NRC resources. Providing the same information via the Internet is a more effective and efficient method of communicating this information to NRC stakeholders.

For the above reasons, the NRC believes that publication of NUREG-0940 is no longer needed. The next issue will contain a notice that will advise recipients that unless the NRC receives sufficient public comment in support of continuing this publication, NRC will cease publication with that issue and describe where on the Internet this information can be obtained. The NRC will also accept and consider comments from persons who are not currently on the mailing list. Those comments should be submitted as indicated above.

Dated at Rockville, Maryland, this 30th day of June 2000.
For the Nuclear Regulatory Commission.
R. William Borchardt,
Director, Office of Enforcement.

[FR Doc. 00-17771 Filed 7-12-00; 8:45 am]

BILLING CODE 7590-01-P